DEPARTMENT OF ENERGY

Federal Energy Regulatory Commission

[Project Nos. 1975-014, 2061-004, 2777-007, 2778-005-Idaho]

Idaho Power Company; Notice of Extension of Time

November 15, 2000.

By letter dated November 8, 2000, the Department of the Interior (Interior) requested an extension of time for the filing of comments in response to the Commission's Notice of Ready for Environmental Analysis and Soliciting Comments, Recommendations, Terms and Conditions, and Prescriptions issued July 14, 2000, and extended August 9, 2000. Interior stated that because of the scope of the projects, staff limitations, and time constraints, additional time is needed in order to prepare and file its comments.

Upon consideration, notice is hereby given that an extension of time for the filing of comments, recommendations, terms and conditions, and prescriptions is granted to and including November 17, 2000.

Linwood A. Watson, Jr.,
Acting Secretary.

[FR Doc. 00-29947 Filed 11-22-00; 8:45 am]

BILLING CODE 6717-01-M